DEPARTMENT OF THE INTERIOR

Fish and Wildlife Service

[FWS-R4-ES-2023-N013; FXES11130900000C2-201-FF09E32000]

Endangered and Threatened Wildlife and Plants; Initiation of 5-Year Status Reviews for 67 Southeastern Species

AGENCY: Fish and Wildlife Service, Interior.

ACTION: Notice of initiation of reviews; request for information.

SUMMARY: We, the U.S. Fish and Wildlife Service, are initiating 5-year status reviews under the Endangered Species Act of 1973, as amended, for 67 animal and plant species. A 5-year review is an assessment of the best scientific and commercial data available at the time of the review to ensure the accuracy of the species classification. We are requesting submission of any such information that has become available since the previous status review for each species.

DATES: To ensure consideration of the information in our reviews, we must receive your comments or information on or before July 10, 2023. However, we will continue to accept new information about any listed species at any time.

ADDRESSES: For instructions on how to submit information for each species, see the table in the SUPPLEMENTARY INFORMATION section.

FOR FURTHER INFORMATION CONTACT: To request information on specific species, contact the appropriate person in the table in the SUPPLEMENTARY INFORMATION section or, for general information, contact Aaron Valenta, via phone at (404) 679-4144, via email at aaron_valenta@fws.gov, or via U.S. mail at U.S. Fish and Wildlife Service, 1875 Century Boulevard, Atlanta, GA 30345. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service, are initiating 5-year status reviews under the Endangered Species Act of 1973, as amended (ESA) (16 U.S.C. 1531 et seq.), for 36 animal species and 31 plant species. A 5-year status review is based on the best scientific and commercial data available at the time of the review; therefore, we are requesting submission of any such information that has become available since the last review for the species, particularly information on the status, threats, and recovery of the species that may have become available.

Why do we conduct 5-year reviews?

Under the ESA, we maintain Lists of Endangered and Threatened Wildlife and Plants (which we collectively refer to as the List) in title 50 of the Code of Federal Regulations at 50 CFR 17.11(h) (for wildlife) and 50 CFR 17.12(h) (for plants). Listed wildlife can be found at https://www.ecfr.gov/current/title-50/chapter-I/subchapter-B/part-17/subpart-B/section-17.11. Listed plants are at https://www.ecfr.gov/current/title-50/chapter-I/subchapter-B/part-17/subpart-B/section-17.12. Section 4(c)(2)(A) of the ESA requires us to review each listed species' status at least once every 5 years. Our regulations at 50 CFR 424.21 require that we publish a notice in the Federal Register announcing species under active review; however, we may review the status of any species at any time based upon a petition or other information available to us. For additional information about 5-year reviews, refer to our fact sheet at: https://www.fws.gov/project/five-year-status-reviews.

What information do we consider in our review?

A 5-year review considers the best scientific and commercial data that have become available since the current listing determination or most recent status review of each species, such as:

(A) Species biology, including but not limited to population trends, distribution, abundance, demographics, habitat requirements, tolerance thresholds, and genetics;

(B) Habitat conditions, including but not limited to amount, distribution, and suitability;

(C) Conservation measures that have been implemented or are planned that benefit the species;

(D) Current threats and trends in relation to the five listing factors (as defined in section 4(a)(1) of the ESA); and

(E) Other new information, data, or corrections, including but not limited to taxonomic or nomenclatural changes, identification of erroneous information contained in the List, and improved analytical methods.

New information will be considered in the 5-year review and ongoing recovery programs for the species.

Which species are under review?

This notice announces 5-year status reviews for the species listed in the table below.

Common name/scientific name | Status (endangered or threatened) | Locations where the species is known to occur | Final listing rule (Federal Register citation and publication date) | Contact person, email, phone | Contact's mailing address
ANIMALS
Mammals:
Mouse, Alabama beach (Peromyscus polionotus ammobates) | Endangered | Alabama | 50 FR 23872; 6/6/1985 | Bill Lynn, alabama@fws.gov, 251-441-5181 | USFWS, 1208B Main Street, Daphne, AL 36526.
Mouse, Anastasia Island beach (Peromyscus polionotus phasma) | Endangered | Florida | 54 FR 20598; 5/12/1989 | Lourdes Mena, Florida_5YR@fws.gov, 904-731-3134 | USFWS, 7915 Baymeadows Way, Suite 200, Jacksonville, FL 32256.
Vole, Florida salt marsh (Microtus pennsylvanicus dukecampbelli) | Endangered | Florida | 56 FR 1457; 1/14/1991 | Lourdes Mena, Florida_5YR@fws.gov, 904-731-3134 | USFWS, 7915 Baymeadows Way, Suite 200, Jacksonville, FL 32256.
Birds:
Crane, Mississippi sandhill (Antigone (= Grus) canadensis pulla) | Endangered | Mississippi | 38 FR 14678; 6/4/1973 | Kelly Morris, mississippi_field_office@fws.gov, 601-321-1120 | USFWS, 6578 Dogwood View Pkwy., Jackson, MS 39213.
Hawk, Puerto Rican broad-winged (Buteo platypterus brunnescens) | Endangered | Puerto Rico | 59 FR 46710; 9/9/1994 | Ivan Ilerandi-Roman, caribbean_es@fws.gov, 786-244-0081 | USFWS, P.O. Box 491, Boquerón, PR 00622.
Petrel, Bermuda (Pterodroma cahow) | Endangered | Bermuda | 35 FR 8491; 6/2/1970 | John Hammond, Raleigh_ES@fws.gov, 919-856-4520 | USFWS, P.O. Box 33726, Raleigh, NC 27636-3726.
Pigeon, Puerto Rican plain (Patagioenas (= Columba) inornata wetmorei) | Endangered | Puerto Rico | 35 FR 16047; 10/13/1970 | José Cruz-Burgos, caribbean_es@fws.gov, 786-244-0081 | USFWS, P.O. Box 491, Boquerón, PR 00622.
Amphibians:
Coquí, llanero (Eleutherodactylus juanariveroi) | Endangered | Puerto Rico | 77 FR 60777; 10/4/2012 | Jan Zegarra, caribbean_es@fws.gov, 786-244-0081 | USFWS, P.O. Box 491, Boquerón, PR 00622.
Salamander, frosted flatwoods (Ambystoma cingulatum) | Threatened | Florida, Georgia, South Carolina | 64 FR 15691; 4/1/1999 | Lourdes Mena, Florida_5YR@fws.gov, 904-731-3134 | USFWS, 1601 Balboa Ave., Panama City, FL 32405.
Reptiles:
Lizard, St. Croix ground (Ameiva polops) | Endangered | Virgin Islands | 42 FR 28543; 6/3/1977 | Jan Zegarra, caribbean_es@fws.gov, 786-244-0081 | USFWS, P.O. Box 491, Boquerón, PR 00622.
Snake, Atlantic salt marsh (Nerodia clarkii taeniata) | Threatened | Florida | 42 FR 60743; 11/29/1977 | Lourdes Mena, Florida_5YR@fws.gov, 904-731-3134 | USFWS, 7915 Baymeadows Way, Suite 200, Jacksonville, FL 32256.
Snake, eastern indigo (Drymarchon couperi) | Threatened | Alabama, Florida, Georgia, Mississippi | 43 FR 4026; 1/31/1978 | Michele Elmore, georgia_es@fws.gov, 912-403-1873 | USFWS, RG Stephens, Jr. Federal Building, 355 East Hancock Ave., Athens, GA 30601.
Fishes:
Cavefish, Ozark (Amblyopsis rosae) | Threatened | Arkansas, Kansas, Missouri, Oklahoma | 49 FR 43965; 11/1/1984 | Pedro Ardapple-Kindberg, arkansas-es_recovery@fws.gov, 870-503-1101 | USFWS, 110 South Amity Road, Suite 300, Conway, AR 72032.
Chub, spotfin (Erimonax monachus) | Threatened | North Carolina, Tennessee, Virginia | 42 FR 45526; 9/9/1977 | Jason Mays, fw4esasheville@fws.gov, 828-258-3939 | USFWS, 160 Zillicoa St., Asheville, NC 28801.
Darter, Cumberland (Etheostoma susanae) | Endangered | Kentucky, Tennessee | 76 FR 48722; 8/9/2011 | Michael Floyd, kentuckyes@fws.gov, 502-695-0468 | USFWS, 330 W Broadway, Ste. 265, Frankfort, KY 40601.
Darter, trispot (Etheostoma trisella) | Threatened | Alabama, Georgia, Tennessee | 83 FR 67131; 12/28/2018 | Jennifer Grunewald, alabama@fws.gov, 251-441-5181 | USFWS, 1208B Main Street, Daphne, AL 36526.
Darter, vermilion (Etheostoma chermocki) | Endangered | Alabama | 66 FR 59367; 11/28/2001 | Jennifer Grunewald, alabama@fws.gov, 251-441-5181 | USFWS, 1208B Main Street, Daphne, AL 36526.
Darter, yellowcheek (Nothonotus (= Etheostoma) moorei) | Endangered | Arkansas | 76 FR 48722; 8/9/2011 | Dustin Booth, arkansas-es_recovery@fws.gov, 501-513-4485 | USFWS, 110 South Amity Road, Suite 300, Conway, AR 72032.
Madtom, Chucky (Noturus crypticus) | Endangered | Tennessee | 76 FR 48722; 8/9/2011 | David Pelren, cookeville@fws.gov, 931-528-6481 | USFWS, 446 Neal Street, Cookeville, TN 38501
Madtom, smoky (Noturus baileyi) | Endangered | Tennessee | 49 FR 43065; 10/26/1984 | Warren Stiles, cookeville@fws.gov, 931-525-4977 | USFWS, 446 Neal Street, Cookeville, TN 38501.
Clams:
Clubshell, ovate (Pleurobema perovatum) | Endangered | Alabama, Georgia, Mississippi, Tennessee | 58 FR 14330; 3/17/1993 | Brittany Barker-Jones, alabama@fws.gov, 251-441-5181 | USFWS, 1208B Main Street, Daphne, AL 36526.
Clubshell, southern (Pleurobema decisum) | Endangered | Alabama, Georgia, Mississippi, Tennessee | 58 FR 14330; 3/17/1993 | Evan Collins, alabama@fws.gov, 251-441-5181 | USFWS, 1208B Main Street, Daphne, AL 36526.
Fanshell (Cyprogenia stegaria) | Endangered | Alabama, Illinois, Indiana, Kentucky, Ohio, Tennessee, Virginia, West Virginia | 55 FR 25591; 6/21/1990 | Taylor Fagin, kentuckyes@fws.gov, 502-695-0468 | USFWS, 330 W Broadway, Ste. 265, Frankfort, KY 40601.
Heelsplitter, Carolina (Lasmigona decorata) | Endangered | North Carolina, South Carolina | 58 FR 34926; 6/30/1993 | Morgan Wolf, charleston_recovery@fws.gov, 843-300-0428 | USFWS, 176 Croghan Spur Rd., Suite 200, Charleston, SC 29407.
Kidneyshell, triangular (Ptychobranchus greenii) | Endangered | Alabama, Georgia, Tennessee | 58 FR 14330; 3/17/1993 | Brittany Barker-Jones, alabama@fws.gov, 251-441-5181 | USFWS, 1208B Main Street, Daphne, AL 36526.
Moccasinshell, Alabama (Medionidus acutissimus) | Threatened | Alabama, Georgia, Mississippi, Tennessee | 58 FR 14330; 3/17/1993 | Brittany Barker-Jones, alabama@fws.gov, 251-441-5181 | USFWS, 1208B Main Street, Daphne, AL 36526.
Moccasinshell, Coosa (Medionidus parvulus) | Endangered | Alabama, Georgia, Tennessee | 58 FR 14330; 3/17/1993 | Brittany Barker-Jones, alabama@fws.gov, 251-441-5181 | USFWS, 1208B Main Street, Daphne, AL 36526.
Mucket, orangenacre (Hamiota perovalis) | Threatened | Alabama, Mississippi | 58 FR 14330; 3/17/1993 | Evan Collins, alabama@fws.gov, 251-441-5181 | USFWS, 1208B Main Street, Daphne, AL 36526.
Mussel, oyster (Epioblasma capsaeformis) | Endangered | Alabama, Kentucky, Tennessee, Virginia | 62 FR 1647; 1/10/1997 | Andy Ford, cookeville@fws.gov, 931-528-6481 | USFWS, 446 Neal Street, Cookeville, TN 38501.
Pigtoe, dark (Pleurobema furvum) | Endangered | Alabama | 58 FR 14330; 3/17/1993 | Erin Padgett, alabama@fws.gov, 251-441-5181 | USFWS, 1208B Main Street, Daphne, AL 36526.
Pigtoe, southern (Pleurobema georgianum) | Endangered | Alabama, Georgia, Tennessee | 58 FR 14330; 3/17/1993 | Brittany Barker-Jones, alabama@fws.gov, 251-441-5181 | USFWS, 1208B Main Street, Daphne, AL 36526.
Pink, ring (Obovaria retusa) | Endangered | Alabama, Kentucky, Tennessee | 54 FR 40109; 9/29/1989 | Taylor Fagin, kentuckyes@fws.gov, 502-695-0468 | USFWS, 330 W Broadway, Ste. 265, Frankfort, KY 40601.
Pocketbook, finelined (Hamiota altilis) | Threatened | Alabama, Georgia, Tennessee | 58 FR 14330; 3/17/1993 | Evan Collins, alabama@fws.gov, 251-441-5181 | USFWS, 1208B Main Street, Daphne, AL 36526.
Spinymussel, Altamaha (Elliptio spinosa) | Endangered | Georgia | 76 FR 62928; 10/11/2011 | Martha Zapata, georgia_es@fws.gov, 706-208-7524 | USFWS, RG Stephens, Jr. Federal Building, 355 East Hancock Ave., Athens, GA 30601.
Crustaceans:
Crayfish, Benton County Cave (Cambarus aculabrum) | Endangered | Arkansas, Missouri | 58 FR 25742; 4/27/1993 | Pedro Ardapple-Kindberg, arkansas-es_recovery@fws.gov, 870-503-1101 | USFWS, 110 South Amity Road, Suite 300, Conway, AR 72032.
Crayfish, Hell Creek Cave (Cambarus zophonastes) | Endangered | Arkansas | 52 FR 11170; 4/7/1987 | Pedro Ardapple-Kindberg, arkansas-es_recovery@fws.gov, 870-503-1101 | USFWS, 110 South Amity Road, Suite 300, Conway, AR 72032.
PLANTS
Flowering Plants:
Aristida chaseae (no common name) | Endangered | Puerto Rico | 58 FR 25755; 4/27/1993 | Angel Colon-Santiago, caribbean_es@fws.gov, 786-244-0081 | USFWS, P.O. Box 491, Boquerón, PR 00622.
Aristida portoricensis (pelos de diablo) | Endangered | Puerto Rico | 55 FR 32255; 8/8/1990 | Angel Colon-Santiago, caribbean_es@fws.gov, 786-244-0081 | USFWS, P.O. Box 491, Boquerón, PR 00622.
Astragalus bibullatus (Guthrie's (= Pyne's) ground-plum) | Endangered | Tennessee | 56 FR 48748; 9/26/1991 | Geoff Call, cookeville@fws.gov, 931-528-6481 | USFWS, 446 Neal Street, Cookeville, TN 38501.
Baptisia arachnifera (hairy rattleweed) | Endangered | Georgia | 43 FR 17910; 4/26/1978 | April Punsalan, charleston_recovery@fws.gov, 843-300-0432 | USFWS, 176 Croghan Spur Rd., Suite 200, Charleston, SC 29407.
Buxus vahlii (Vahl's boxwood) | Endangered | Puerto Rico, Virgin Islands | 50 FR 32572; 8/13/1985 | Omar Monsegur, caribbean_es@fws.gov, 786-244-0081 | USFWS, P.O. Box 491, Boquerón, PR 00622.
Campanula robinsiae (Brooksville bellflower) | Endangered | Florida | 54 FR 31190; 7/27/1989 | Lourdes Mena, Florida_5YR@fws.gov, 904-731-3134 | USFWS, 7915 Baymeadows Way, Suite 200, Jacksonville, FL 32256.
Clematis morefieldii (Morefield's leather-flower) | Endangered | Alabama, Georgia, Tennessee | 57 FR 21562; 5/20/1992 | Scott Wiggers, mississippi_field_office@fws.gov, 228-475-0765 | USFWS, 6578 Dogwood View Pkwy., Jackson, MS 39213.
Conradina etonia (Etonia rosemary) | Endangered | Florida | 58 FR 37432; 7/12/1993 | Lourdes Mena, Florida_5YR@fws.gov, 904-731-3134 | USFWS, 7915 Baymeadows Way, Suite 200, Jacksonville, FL 32256.
Daphnopsis helleriana (no common name) | Endangered | Puerto Rico | 53 FR 23740; 6/23/1988 | José G. Martínez, caribbean_es@fws.gov, 786-244-0081. | USFWS, P.O. Box 491, Boquerón, PR 00622.
Gesneria pauciflora (no common name) | Threatened | Puerto Rico | 60 FR 12483; 3/7/1995 | Omar Monsegur, caribbean_es@fws.gov, 786-244-0081 | USFWS, P.O. Box 491, Boquerón, PR 00622.
Goetzea elegans (beautiful goetzea or matabuey) | Endangered | Puerto Rico. | 50 FR 15564; 4/19/1985 | Maritza Vargas, caribbean_es@fws.gov, 786-244-0081 | USFWS, P.O. Box 491, Boquerón, PR 00622.
Gratiola amphiantha (= Amphianthus pusillus) (little amphianthus) | Threatened | Alabama, Georgia, South Carolina | 53 FR 3560; 2/5/1988 | Mincy Moffett, georgia_es@fws.gov, 787-510-5206 | USFWS, RG Stephens, Jr. Federal Building, 355 East Hancock Ave., Athens, GA 30601.
Hudsonia montana (mountain golden heather) | Threatened | North Carolina | 45 FR 69360; 10/20/1980 | Rebekah Reid, fw4esasheville@fws.gov, 828-258-3939 | USFWS, 160 Zillicoa St., Asheville, NC 28801.
Ilex cookii (Cook's holly) | Endangered | Puerto Rico | 52 FR 22936; 6/16/1987 | Marielle Peschiera, caribbean_es@fws.gov, 787-510-5206 | USFWS, P.O. Box 491, Boquerón, PR 00622.
Juglans jamaicensis (Nogal or West Indian walnut) | Endangered | Puerto Rico | 62 FR 1691; 1/13/1997 | Marielle Peschiera, caribbean_es@fws.gov, 786-244-0081 | USFWS, P.O. Box 491, Boquerón, PR 00622.
Justicia cooleyi (Cooley's water-willow) | Endangered | Florida | 54 FR 31190; 7/27/1989 | Lourdes Mena, Florida_5YR@fws.gov, 904-731-3134 | USFWS, 7915 Baymeadows Way, Suite 200, Jacksonville, FL 32256.
Lyonia truncata var. proctorii (no common name) | Endangered | Puerto Rico | 58 FR 25755; 4/27/1993 | Angel Colon-Santiago, caribbean_es@fws.gov, 786-244-0081 | USFWS, P.O. Box 491, Boquerón, PR 00622.
Myrcia neothomasiana (= Calyptranthes thomasiana) (no common name) | Endangered | Virgin Islands | 59 FR 8138; 2/18/1994 | José Cruz-Burgos, caribbean_es@fws.gov, 786-244-0081 | USFWS, P.O. Box 491, Boquerón, PR 00622.
Nolina brittoniana (Britton's beargrass) | Endangered | Florida | 58 FR 25746; 4/27/1993 | Lourdes Mena, Florida_5YR@fws.gov, 904-731-3134 | USFWS, 7915 Baymeadows Way, Suite 200, Jacksonville, FL 32256.
Paysonia (= Lesquerella) lyrata (lyrate bladderpod) | Threatened | Alabama | 55 FR 39864; 9/28/1990 | Erin Lentz, alabama@fws.gov, 251-441-5181 | USFWS, 1208B Main Street, Daphne, AL 36526.
Paysonia (= Lesquerella) perforata (Spring Creek bladderpod) | Endangered | Tennessee | 61 FR 67493; 12/23/1996 | Kerri Dikun, cookeville@fws.gov, 931-528-6481 | USFWS, 446 Neal Street, Cookeville, TN 38501.
Rhododendron chapmanii (Chapman rhododendron) | Endangered | Florida | 44 FR 24248; 4/24/1979 | Lourdes Mena, Florida_5YR@fws.gov, 904-731-3134 | USFWS, 1601 Balboa Ave., Panama City, FL 32405.
Scutellaria floridana (Florida skullcap) | Threatened | Florida | 57 FR 19813; 5/8/1992 | Lourdes Mena, Florida_5YR@fws.gov, 904-731-3134 | USFWS, 1601 Balboa Ave., Panama City, FL 32405.
Schwalbea americana (American chaffseed) | Endangered | Alabama, Florida, Georgia, Louisiana, Massachusetts, New Jersey, North Carolina, South Carolina | 57 FR 44703; 9/29/1992 | April Punsalan, charleston_recovery@fws.gov, 843-300-0432 | USFWS, 176 Croghan Spur Rd., Suite 200, Charleston, SC 29407.
Sisyrinchium dichotomum (white irisette) | Endangered | North Carolina, South Carolina | 56 FR 48752; 9/26/1991 | Natali Ramirez-Bullon, fw4esasheville@fws.gov, 828-258-3939 | USFWS, 160 Zillicoa St., Asheville, NC 28801.
Solidago spithamaea (Blue Ridge goldenrod) | Threatened | North Carolina, Tennessee | 50 FR 12306; 3/28/1985 | Natali Ramirez-Bullon, fw4esasheville@fws.gov, 828-258-3939 | USFWS, 160 Zillicoa St., Asheville, NC 28801.
Vernonia proctorii (no common name) | Endangered | Puerto Rico | 58 FR 25755; 4/27/1993 | Angel Colon-Santiago, caribbean_es@fws.gov, 786-244-0081 | USFWS, P.O. Box 491, Boquerón, PR 00622.
Ferns and Allies:
Cyathea dryopteroides (elfin tree fern) | Endangered | Puerto Rico | 52 FR 22936; 6/16/1987 | Marielle Peschiera, caribbean_es@fws.gov, 786-244-0081 | USFWS, P.O. Box 491, Boquerón, PR 00622.
Isoetes louisianensis (Louisiana quillwort) | Endangered | Alabama, Louisiana, Mississippi | 57 FR 48741; 10/28/1992 | Scott Wiggers, mississippi_field_office@fws.gov, 228-475-0765 | USFWS, 6578 Dogwood View Pkwy., Jackson, MS 39213.
Isoetes melanospora (black-spored quillwort) | Endangered | Georgia | 53 FR 3560; 2/5/1988 | Mincy Moffett, georgia_es@fws.gov, 787-510-5206 | USFWS, RG Stephens, Jr. Federal Building, 355 East Hancock Ave., Athens, GA 30601.
Isoetes tegetiformans (mat-forming quillwort) | Endangered | Georgia | 53 FR 3560; 2/5/1988 | Mincy Moffett, georgia_es@fws.gov, 787-510-5206 | USFWS, RG Stephens, Jr. Federal Building, 355 East Hancock Ave., Athens, GA 30601.

Request for New Information

To ensure that 5-year reviews are based on the best available scientific and commercial information, we request new information from all sources. Please use the contact information listed in the table above that is associated with the species for which you are submitting information. If you submit information, please support it with documentation such as maps, bibliographic references, methods used to gather and analyze the data, and/or copies of any pertinent publications, reports, or letters by knowledgeable sources.

How do I ask questions or provide information?

If you wish to provide information for any species listed above, please submit your comments and materials to the appropriate contact in the table above. You may also direct questions to those contacts (also see FOR FURTHER INFORMATION CONTACT).

Public Availability of Comments

Before including your address, phone number, email address, or other personal identifying information in your submission, you should be aware that your entire submission—including your personal identifying information—may be made publicly available at any time. Although you can request that personal information be withheld from public review, we cannot guarantee that we will be able to do so.

Completed and Active Reviews

A list of all completed and currently active 5-year status reviews can be found at https://ecos.fws.gov/ecp/report/species-five-year-review.

Authority

This document is published under the authority of the Endangered Species Act of 1973, as amended (16 U.S.C. 1531 et seq.).

Michael Oetker,
Acting Regional Director, Southeast Region, U.S. Fish and Wildlife Service.

[FR Doc. 2023-10085 Filed 5-10-23; 8:45 am]

BILLING CODE 4333-15-P